DEPARTMENT OF LABOR

Occupational Safety and Health Administration

[Docket No. OSHA-2006-0042]

Canadian Standards Association; Expansion of Recognition

AGENCY: Occupational Safety and Health Administration (OSHA), Labor.

ACTION: Notice.

SUMMARY: This notice announces the Occupational Safety and Health Administration's final decision expanding the recognition of the Canadian Standards Association as a Nationally Recognized Testing Laboratory under 29 CFR 1910.7.

DATES: The expansion of recognition becomes effective on October 25, 2010.

FOR FURTHER INFORMATION CONTACT: MaryAnn Garrahan, Director, Office of Technical Programs and Coordination Activities, NRTL Program, Occupational Safety and Health Administration, U.S. Department of Labor, 200 Constitution Avenue, NW., Room N-3655, Washington, DC 20210, or phone (202) 693-2110.

SUPPLEMENTARY INFORMATION:

Notice of Final Decision

The Occupational Safety and Health Administration (OSHA) hereby gives notice that it is expanding recognition of the Canadian Standards Association (CSA) as a Nationally Recognized Testing Laboratory (NRTL). CSA's expansion covers the use of additional test standards. OSHA's current scope of recognition for CSA may be found in the following informational Web page: http://www.osha.gov/dts/otpca/nrtl/csa.html.

OSHA recognition of an NRTL signifies that the organization has met the legal requirements specified in 29 CFR 1910.7. Recognition is an acknowledgment that the organization can perform independent safety testing and certification of the specific products covered within its scope of recognition, and is not a delegation or grant of government authority. As a result of recognition, employers may use products approved by the NRTL to meet OSHA standards that require product testing and certification.

The Agency processes applications by an NRTL for initial recognition, or for expansion or renewal of this recognition, following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. OSHA maintains an informational Web page for each NRTL that details its scope of recognition. These pages are available from the Web site at http://www.osha.gov/dts/otpca/nrtl/index.html. Each NRTL's scope of recognition has three elements: (1) The type of products the NRTL may test, with each type specified by its applicable test standard; (2) the recognized site(s) that has/have the technical capability to perform the testing and certification activities for test standards within the NRTL's scope; and (3) the supplemental program(s) that the NRTL may use, each of which allows the NRTL to rely on other parties to perform activities necessary for product testing and certification.

CSA submitted an application, dated June 25, 2008, to expand its recognition to include five additional test standards. The NRTL Program staff determined that four of these standards (listed below) are “appropriate test standards” within the meaning of 29 CFR 1910.7(c). In connection with this request, NRTL Program staff did not perform any onsite review of CSA's recognized sites. The staff only performed a comparability analysis,¹ and recommended expansion of CSA's recognition to include the additional four test standards listed below. The Agency subsequently accepted this recommendation, and published a preliminary notice announcing the expansion application in the Federal Register on April 26, 2010 (75 FR 21666). Comments were requested by May 11, 2010, but OSHA received no comments in response to this notice. OSHA is now proceeding with this final notice to grant CSA's expansion application.

¹ This analysis involves determining whether the testing and evaluation requirements of test standards already in an NRTL's scope are comparable to the requirements in the standards requested by the NRTL.

All public documents pertaining to the CSA application are available for review by contacting the Docket Office, Occupational Safety and Health Administration, U.S. Department of Labor, 200 Constitution Avenue, NW., Room N-2625, Washington, DC 20210. These materials also are available online at http://www.regulations.gov under Docket No. OSHA-2006-0042.

Final Decision and Order

NRTL Program staff examined CSA's application, the comparability analysis, and other pertinent information. Based on this examination and the analysis, OSHA finds that CSA meets the requirements of 29 CFR 1910.7 for expansion of its recognition, subject to the limitation and conditions specified below. Pursuant to the authority in 29 CFR 1910.7, OSHA hereby expands the recognition of CSA, subject to this limitation and these conditions.

Limitation

OSHA limits the expansion of CSA's recognition to testing and certification of products for demonstration of conformance to the following test standards, each of which OSHA determines is an appropriate test standard, within the meaning of 29 CFR 1910.7(c):

UL 498A Current Taps and Adapters

UL 515 Electrical Resistance Heat Tracing for Commercial and Industrial Applications

UL 1673 Electric Space Heating Cables

UL 1977 Component Connectors for Use in Data, Signal, Control and Power Applications

The designations and titles of these test standards were current at the time of the preparation of this notice.

OSHA's recognition of any NRTL for a particular test standard is limited to equipment or materials (i.e., products) for which OSHA standards require third-party testing and certification before use in the workplace. Consequently, if a test standard also covers any product for which OSHA does not require such testing and certification, an NRTL's scope of recognition does not include that product.

The American National Standards Institute (ANSI) may approve the test standards listed above as an American National Standard. However, for convenience, we may use the designation of the standards-developing organization for the standard as opposed to the ANSI designation. Under the NRTL Program's policy (see OSHA Instruction CPL 1-0.3, Appendix C, paragraph XIV), any NRTL recognized for a particular test standard may use either the proprietary version of the test standard or the ANSI version of that standard. Contact ANSI to determine whether a test standard is currently ANSI-approved.

Conditions

CSA also must abide by the following conditions of the recognition, in addition to those conditions already required by 29 CFR 1910.7:

1. CSA must allow access to its facilities and records to ascertain continuing compliance with the terms of its recognition, and to perform investigations as OSHA deems necessary;

2. If CSA has reason to doubt the efficacy of any test standard it is using under this program, it must promptly inform the test standard-developing organization of this concern, and provide that organization with appropriate relevant information upon which its concern is based;

3. CSA must not engage in, or permit others to engage in, any misrepresentation of the scope or conditions of its recognition. As part of this condition, CSA agrees that it will allow no representation that it is either a recognized or an accredited Nationally Recognized Testing Laboratory (NRTL) without clearly indicating the specific equipment or material to which this recognition applies and that its recognition is limited to certain products;

4. CSA must inform OSHA as soon as possible, in writing, of any change of ownership, facilities, or key personnel, and of any major changes in its operations as an NRTL, including details of these changes;

5. CSA will meet all the terms of its recognition and will always comply with all OSHA policies pertaining to this recognition; and

6. CSA will continue to meet the requirements for recognition in all areas to which this recognition applies.

Authority and Signature

David Michaels, PhD, MPH, Assistant Secretary of Labor for Occupational Safety and Health, 200 Constitution Avenue, NW., Washington, DC 20210, directed the preparation of this notice. Accordingly, the Agency is issuing this notice pursuant to Sections 6(b) and 8(g) of the Occupational Safety and Health Act of 1970 (29 U.S.C. 655 and 657), Secretary of Labor's Order No. 4-2010 (75 FR 55355), and 29 CFR part 1911.

Signed at Washington, DC, on October 20, 2010.
David Michaels,
Assistant Secretary of Labor for Occupational Safety and Health.

[FR Doc. 2010-26887 Filed 10-22-10; 8:45 am]

BILLING CODE 4510-26-P